DEPARTMENT OF THE INTERIOR

National Park Service

National Register of Historic Places; Notification of Pending Nominations and Related Actions

Nominations for the following properties being considered for listing or related actions in the National Register were received by the National Park Service before January 14, 2006. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by February 21, 2006.

John W. Roberts,
Acting Chief, National Register/National Historic Landmarks Program.

ALASKA

Valdez-Cordova Borough-Census Area

S.S. PORTLAND (Shipwreck), mouth of Katalla River, Cordova, 06000058

FLORIDA

Broward County

King, Dr. Willard Van Orsdel, House, 1336 Seabreeze Blvd., Fort Lauderdale, 06000059

MASSACHUSETTS

Middlesex County

Bennett—Shattuck House, 653 Martins Pond Rd., Groton, 06000061

Worcester County

Russell Corner Historic District, Merriam, Gregory Hill, East Princeton and Sterling Rds, Bullock Lane, Princeton, 06000060

Washburn Square—Leicester Common Historic District, Main St., Washburn Sq., 3 Paxton St., Leicester, 06000062

MISSISSIPPI

Wayne County

Wausau Work Center, 500 Salem Rd., Richton, 06000063

MISSOURI

St. Louis Independent City

Central Carondelet Historic District, Roughly bounded by Koeln, Loughb\orough, S. Broadway and Alabama Ave., St. Louis (Independent City), 06000064

NEW YORK

New York County

Seagram Building, 375 Park Ave., New York, 06000056

Suffolk County

Davis, Charles Homer, House, 381 W. Neck Rd., Lloyd Harbor, 06000057

VIRGINIA

King William County

Zoar, VA 608, Upshaw Rd., Aylett, 06000065

Lunenburg County

Fifth Avenue Historic District, 100-500 Blks of E. Fifth Ave., Kenbridge, 06000066

Richmond Independent City

Virginia Can Company—S.H. Heironimus Warehouse, 315 Albemarle SE, Roanoke (Independent City), 06000067

WISCONSIN

Washington County

Saxonia House, 421 WI H, Farmington, 06000068

[FR Doc. E6-1428 Filed 2-2-06; 8:45 am]

BILLING CODE 4312-51-P